DEPARTMENT OF LABOR

Occupational Safety and Health Administration

[Docket No. ICR-1218-0172(2001)]

Student Data Form; Extension of the Office of Management and Budget's Approval of Information-Collection (Paperwork) Requirements

AGENCY: Occupational Safety and Health Administration (OSHA), Labor.

ACTION: Notice of an opportunity for public comment.

SUMMARY: OSHA solicits public comment concerning its request to the Office of Management and Budget (OMB) for an extension of the information-collection requirements specified in its Student Data Form.

DATES: Submit written comments on or before April 30, 2001.

ADDRESSES: Submit written comments to the Docket Office, Docket No. ICR 1218-0020(2001), OSHA, U.S. Department of Labor, Room N-2625, 200 Constitution Avenue, N.W., Washington, DC 20210; telephone: (202) 693-2350. Commenters may transmit written comments of 10 pages or less by facsimile to: (202) 693-1648.

FOR FURTHER INFORMATION CONTACT: Cindy Bencheck, Division of Training and Educational Programs, OSHA Office of Training and Education, 1555 Times Drive, Des Plaines, Illinois 60018; telephone: (847) 297-4810; e-mail: cindy.bencheck@oti.osha.gov; or facsimile: (847) 297-4874. A copy of the Agency's Information-Collection Request (ICR) supporting the need for the information collections specified in the Student Data Form is available for inspection and copying in the Docket Office, or by requesting a copy from Todd Owen at (202) 693-2444. For electronic copies of this ICR, contact OSHA on the Internet at http://www.osha.gov/.

SUPPLEMENTARY INFORMATION:

I. Background

The Department of Labor, as part of its continuing effort to reduce paperwork and respondent (e.g., employer) burden, conducts a preclearance consultation program to provide the public with an opportunity to comment on proposed and continuing information-collection requirements in accordance with the Paperwork Reduction Act of 1995 (44 U.S.C. 3506(c)(2)(A)). This program ensures that information is in the desired format, reporting burden (time and costs) is minimal, collection instruments are clearly understood, and OSHA's estimate of the information burden is correct.

Section 21 of the Occupational Safety and Health Act of 1970 (the “OSH Act”) (29 U.S.C. 670) authorizes the Occupational Safety and Health Administration (“OSHA” or the “Agency”) to conduct education and training courses. These courses must ensure an adequate number of qualified personnel to fulfill the purposes of the Act, provide them with short-term training, inform them of the importance and proper use of safety and health equipment, and train employers and employees to recognize, avoid, and prevent unsafe and unhealthful working conditions, occupational education and training courses.

Under Section 21 of the Act, the OSHA Training Institute (the “Institute”) provides basic, intermediate, and advanced training and education in occupational safety and health for Federal and State compliance officers, Agency professionals and technical-support personnel, employers, employees, organizations representing employees and employers, educators who develop curricula and teach occupational safety and health courses, and representatives of professional safety and health groups. The Institute provides courses on occupational safety and health at its national training facility in Des Plaines, Illinois.

Students attending Institute courses complete a one-page Student Data Form (OSHA Form 182, 5/98 edition) on the first day of class. The form provides information under five major categories titled “Course Information,” “Personal Data,” “Employer Data,” “Emergency Contacts,” and “Student Groups.” The OSHA Office of Training and Education (the “Office”) compiles, for each fiscal year, the following information from the “Course Information” and “Student Groups” categories: Total student attendance at the Institute; the number of students attending each training course offered by the Institute; and the types of students attending these courses (for example, students from Federal or State occupational safety and health agencies). The Office uses this information to demonstrate, in an accurate and timely manner, that the Agency is providing the training and employee education mandated by Section 21 of the Act. OSHA also uses this information to evaluate training, and to make decisions regarding program/course revisions, budget support, and tuition costs.

The Agency uses the information collected under the “Course Information,” “Personal Data,” and “Employer Data” to identify private-sector students so that it can collect tuition costs from them or their employers as authorized by 31 U.S.C. 9701 (“Fees and Charges for Government Services and Things of Value”); Office of Management and Budget Circular A-25 (“User Charges”); and 29 CFR part 1949 (“Office of Training and Education, Occupational Safety and Health Administration”). The information in the “Personal Data” and Emergency Contacts” categories permits OSHA to contact students who are residing in local hotels/motels if an emergency arises at their home or place of employment, and to alert supervisors/alternate contacts of a trainee's injury or illness.

II. Special Issues for Comment

The Agency has a particular interest in comments on the following issues:

• Whether the proposed information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend OMB's approval of the collection-of-information (paperwork) requirements specified in the Student Data Form. The Agency will summarize the comments submitted in response to this notice, and will include this summary, along with the comments, in its request to OMB to extend the approval of these information-collection requirements.

Type of Review: Extension of currently approved information-collection requirements.

Title: Student Data Form.

OMB Number: 1218-0172.

Affected Public: Individuals; business or other for-profit organizations; Federal government; State, Local, or Tribal governments.

Number of Respondents: 5,000.

Frequency: On occasion.

Total Responses: 5,000.

Average Time Per Response: 5 minutes.

Estimated Total Burden Hours: 417 hours.

Estimated Cost (Operation and Maintenance): $8,092.

IV. Authority and Signature

R. Davis Layne, Acting Assistant Secretary of Labor for Occupational Safety and Health, directed the preparation of this notice. The authority for this notice is the Paperwork Reduction Act of 1995 (44 U.S.C. 3506) and Secretary of Labor's Order No 3-2000 (65 FR 50017).

Signed at Washington, DC, on February 23, 2001.
R. Davis Layne,
Acting Assistant Secretary of Labor.

[FR Doc. 01-4901 Filed 2-27-01; 8:45 am]

BILLING CODE 4510-26-U